DEPARTMENT OF COMMERCE

National Oceanic and Atmospheric Administration

[RTID 0648-XE955]

33rd General Advisory Committee to the U.S. Section to the Inter-American Tropical Tuna Commission and 18th Scientific Advisory Subcommittee to the General Advisory Committee; Meeting Announcement

AGENCY: National Marine Fisheries Service (NMFS), National Oceanic and Atmospheric Administration (NOAA), Commerce.

ACTION: Notice of public meeting.

SUMMARY: NMFS announces a public meeting of the 33rd General Advisory Committee (GAC) to the U.S. Section to the Inter-American Tropical Tuna Commission (IATTC) and the 18th Scientific Advisory Subcommittee (SAS) to the GAC. This meeting will be held on July 30 and 31, 2025 via webinar. The meeting topics are described under the SUPPLEMENTARY INFORMATION section of this notice.

DATES: The virtual meeting of the SAS and GAC will be held on Wednesday July 30, 2025, and Thursday July 31, 2025, from 9 a.m. to 2 p.m. PDT each day (or until business is concluded). You must complete the registration process by June 27, 2025, if you plan to attend the meeting (see ADDRESSES).

ADDRESSES: If you plan to attend the meeting, which will be held by webinar, please register at https://forms.gle/ewJ8XsTtf3Zr3M8f7. Instructions for attending the meeting will be emailed to meeting participants before the meeting occurs. This meeting may be audio recorded for the purposes of generating notes of the meeting. As public comments will be made publicly available, participants and public commenters are urged not to provide personally identifiable information (PII) at this meeting. Participation in the meeting by web conference, or by telephone constitutes consent to the audio recording. Executive sessions are not open to the public, and are therefore not recorded.

FOR FURTHER INFORMATION CONTACT: Lucille Bulkeley, NMFS West Coast Region, 858-546-5620, lucille.bulkeley@noaa.gov.

SUPPLEMENTARY INFORMATION: The timing of U.S. SAS and GAC meetings are adjusted based on the dates of the IATTC and Agreement on International Dolphin Conservation Program (AIDCP) Annual Meetings. This year, the IATTC will convene its 16th Meeting of the Scientific Advisory Committee (SAC) June 2-6 2025, and the 103rd Annual Meeting of the IATTC, subsidiary bodies, and meetings of the AIDCP will be held on August 26-September 5, 2025, in Panama. For 2025, the combined U.S. SAS and GAC Meeting will be held on July 30-31, after the IATTC SAC Meeting and before the IATTC and AIDCP meetings. This timing allows for scientific topics presented at the IATTC SAC Meeting, including stock assessments, to be discussed and used to inform U.S. positions at the combined U.S. SAS and GAC Meeting. This meeting will also include updates from IATTC working groups and is expected to include presentations of draft U.S. proposals to be submitted to the IATTC. An executive session may be called in order to discuss sensitive information, including possible U.S. negotiating positions for the upcoming IATTC Annual Meeting.

In accordance with the Tuna Conventions Act (16 U.S.C. 951 et seq.) (TCA), the U.S. Department of Commerce, in consultation with the Department of State (the State Department), appoints a GAC to the U.S. Section to the IATTC and a SAS that advises the GAC. The U.S. Section consists of the four U.S. Commissioners and alternate U.S. Commissioners to the IATTC and representatives of the State Department, NOAA, Department of Commerce, other U.S. Government agencies, and stakeholders. The GAC provides recommendations to the U.S. section of the IATTC. The purpose of the SAS is to advise the GAC on scientific matters and provide recommendations to the GAC. Per the TCA, the SAS advises the GAC on matters including the conservation of ecosystems, the sustainable uses of living marine resources related to the tuna fishery in the eastern Pacific Ocean, and the long-term conservation and management of stocks of living marine resources in the eastern tropical Pacific Ocean. NMFS West Coast Region staff provides administrative and technical support services as necessary for the effective functioning of the SAS and GAC.

The meetings of the SAS and GAC are open to the public, unless in executive session. The time and manner of public comment will be at the discretion of the Chairs for the SAS and GAC. For more information and updates on the upcoming IATTC meetings, please visit the IATTC's website: https://www.iattc.org/MeetingsENG.htm.

SAS and GAC Meeting Topics

Given the virtual nature of these meetings, the agenda will be concise. The SAS and GAC meeting to prepare for the 103rd IATTC Annual Meeting is expected to cover a broad spectrum of topics including but not limited to:

(1) Outcomes of the most recent IATTC stock assessments and updates for tuna, tuna-like species, and other species caught in association with those fisheries in the eastern Pacific Ocean;

(2) Evaluation of the IATTC Staff's Recommendations to the Commission for 2025;

(3) Potential proposal(s) to the IATTC;

(4) Updates from Joint IATTC-Western and Central Pacific Fisheries Commission Northern Committee Working Group on Pacific Bluefin Tuna;

(5) Recommendations from the SAS and GAC members; and

(6) Other issues as they arise.

Special Accommodations

Requests for sign language interpretation or other auxiliary aids should be directed to Lucille Bulkeley (see FOR FURTHER INFORMATION CONTACT).

Authority: 16 U.S.C. 951 et seq.

Dated: June 3, 2025.
Kelly Denit,
Director, Office of Sustainable Fisheries, National Marine Fisheries Service.

[FR Doc. 2025-10343 Filed 6-5-25; 8:45 am]

BILLING CODE 3510-22-P